DEPARTMENT OF HEALTH AND HUMAN SERVICES

Centers for Disease Control and Prevention

[30Day-14-0800]

Agency Forms Undergoing Paperwork Reduction Act Review

The Centers for Disease Control and Prevention (CDC) has submitted the following information collection request to the Office of Management and Budget (OMB) for review and approval in accordance with the Paperwork Reduction Act of 1995. The notice for the proposed information collection is published to obtain comments from the public and affected agencies.

Written comments and suggestions from the public and affected agencies concerning the proposed collection of information are encouraged. Your comments should address any of the following: (a) Evaluate whether the proposed collection of information is necessary for the proper performance of the functions of the agency, including whether the information will have practical utility; (b) Evaluate the accuracy of the agencies estimate of the burden of the proposed collection of information, including the validity of the methodology and assumptions used; (c) Enhance the quality, utility, and clarity of the information to be collected; (d) Minimize the burden of the collection of information on those who are to respond, including through the use of appropriate automated, electronic, mechanical, or other technological collection techniques or other forms of information technology, e.g., permitting electronic submission of responses; and (e) Assess information collection costs.

To request additional information on the proposed project or to obtain a copy of the information collection plan and instruments, call (404) 639-7570 or send an email to omb@cdc.gov. Written comments and/or suggestions regarding the items contained in this notice should be directed to the Attention: CDC Desk Officer, Office of Management and Budget, Washington, DC 20503 or by fax to (202) 395-5806. Written comments should be received within 30 days of this notice.

Proposed Project

Focus Group Testing to Effectively Plan and Tailor Cancer Prevention and Control Communication Campaigns (OMB No. 0920-0800, exp. 11/30/2014)—Extension—National Center for Chronic Disease Prevention and Health Promotion (NCCDPHP), Centers for Disease Control and Prevention (CDC).

Background and Brief Description

The mission of the CDC's Division of Cancer Prevention and Control (DCPC) is to reduce the burden of cancer in the United States through cancer prevention, reduction of risk, early detection, better treatment, and improved quality of life for cancer survivors. Toward this end, the DCPC supports the scientific development, implementation, and evaluation of various health communication campaigns with an emphasis on specific cancer burdens. This process requires testing of messages, concepts, and materials prior to their final development and dissemination. Communication campaigns vary according to the type of cancer, the qualitative dimensions of the message described above, and the type of respondents.

CDC is currently approved to collect information needed to plan and tailor cancer communication campaigns (OMB No. 0920-0800, exp. 11/30/2014), and seeks OMB approval to extend the existing generic clearance. No changes to the scope of the clearance or data collection methodology are proposed. There are small decreases in the annualized estimates for the number of respondents and burden hours.

Information will be collected primarily through focus groups, and will be used to assess numerous qualitative dimensions of cancer prevention and control messages, including, but not limited to, knowledge, attitudes, beliefs, behavioral intentions, information needs and sources, and compliance to recommended screening intervals. Insights gained from the focus groups will assist in the development and/or refinement of future campaign messages and materials.

DCPC plans to conduct or sponsor up to 80 focus groups per year over a three-year period. An average of 10 respondents will participate in each focus group discussion. Screening will be conducted to recruit respondents for specific target audiences, e.g., the general public or health care providers. The estimated burden per response for screening is three minutes. Each focus group discussion will be facilitated by a written discussion guide, and will last approximately two hours. CDC will submit an information collection request to OMB for approval of each focus group activity.

OMB approval is requested for three years. There are no changes to information collection purpose or methodology. There are minor reductions in the annualized estimates for the number of respondents and corresponding burden hours.

Participation is voluntary and there are no costs to respondents except their time. The total estimated annualized burden hours are 1,680.

Estimated Annualized Burden Hours
Type of respondents | Form name | Number of respondents | Number of responses per respondent | Average burden per response (in hours)
General Public | Screening Form | 960 | 1 | 3/60
| Focus Group Guide | 480 | 1 | 2
Health Care Professionals | Screening Form | 640 | 1 | 3/60
| Focus Group Guide | 320 | 1 | 2

Leroy A. Richardson,
Chief, Information Collection Review Office, Office of Scientific Integrity, Office of the Associate Director for Science, Office of the Director, Centers for Disease Control and Prevention.

[FR Doc. 2014-20718 Filed 8-29-14; 8:45 am]

BILLING CODE 4163-18-P